DEPARTMENT OF ENERGY

Federal Energy Regulatory Commission

[Docket Nos. RM07-16-000 and RM01-5-000]

Information Collection Activities and Request for Comments

AGENCY: Federal Energy Regulatory Commission.

ACTION: Notice and request for comments.

SUMMARY: The Federal Energy Regulatory Commission (Commission) invites public comment on a proposed collection of information that the Commission is developing for submission to the Office of Management and Budget (OMB) pursuant to the Paperwork Reduction Act of 1995 (PRA). This collection of information relates to the application to interstate and intrastate natural gas pipelines and interstate oil pipelines of the Commission's revised Company Registration procedures.¹

¹ Concurrent with this Notice, the Commission is issuing a separate order on “Revisions to Company Registration and Establishing Technical Conference” with additional details on the requirements.

DATES: Comments regarding this proposed information collection must be received on or before April 15, 2013.

ADDRESSES: You may submit comments (identified by Docket Nos. RM07-16-000 and RM01-5-000) by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

FOR FURTHER INFORMATION CONTACT: Ellen Brown, by email at DataClearance@FERC.gov, telephone at (202) 502-8663, and fax at (202) 273-0873.

SUPPLEMENTARY INFORMATION: This collection of information relates to the application to interstate and intrastate natural gas pipelines and interstate oil pipelines of the Commission's revised Company Registration procedures.

These procedures will replace the use of random-number generated passwords to authenticate access to a company registration account with a superior method of authentication. Under the revised procedures, a regulated natural gas and oil pipeline will be able to maintain a list of eRegistered agents whom the pipeline has authorized to submit a particular type of filing. Implementation of these changes will provide increased flexibility for regulated entities to manage their company registration accounts and to designate agents to make filings at the Commission. These changes also will reduce the need for pipelines to institute measures to protect password integrity, including the need to request new passwords if existing passwords are compromised.² These revised procedures are expected to go into effect in October 2013.

² A description of the procedures can be found in the Commission's order in Filing Via the Internet, Docket Nos. RM07-16-000 and RM01-5-000, 142 FERC ¶ 61,097 (2013) (http://elibrary.ferc.gov/idmws/common/OpenNat.asp?fileID=13174100).

OMB's regulations ³ require approval of certain information collection requirements that impose identical reporting or recordkeeping requirements imposed on ten or more persons. Without consideration of potential cost savings in reduced password management and requests for new passwords, the one-time burden on interstate and intrastate natural gas and oil pipelines to transition to the revised system is estimated to be one hour per respondent at a cost of $35.99/hour for support staff.⁴

³ 5 CFR 1320.

⁴ The estimated burden on electric utilities for compliance with this requirement was included in Order No. 770, 77 FR 71,288 (Nov. 30, 2012) and is incorporated in FERC-920, Electric Quarterly Report, OMB Control No. 1902-0255. Those reporting requirements will be submitted to OMB for review after OMB issues a decision on another pending item under that Control Number. (Only one item per OMB Control Number can be pending at OMB for PRA review at a time.)

Information Collection Costs: The Commission projects the average annual burden and cost of compliance with these regulations to be the following:

Data collection | Number of respondents | Hours per response (1 response per respondent) | Total hours | Total cost
FERC-545—NGA Pipelines | 161 | 1 | 161 | $5,794
FERC-549—NGPA Pipelines | 200 | 1 | 200 | 7,198
FERC-550—Oil Pipelines | 200 | 1 | 200 | 7,198

We estimate that pipelines will have the initial implementation burden of one hour and may annually review or make revisions to their list of designated agents. The total annual cost for all respondents is: $20,190.

Title: FERC-545, Gas Pipeline Rates: Rate Change (Non-Formal), OMB Control No. 1902-0154; FERC-549, Gas Pipeline Rates: NGPA Title III Transactions and Part 341, OMB Control No. 1902-0086; and FERC-550, Oil Pipeline Rates: Tariff Filings, OMB Control No. 1902-0089.

Action: Revised company registration information requirements.

Respondents: Interstate and intrastate natural gas pipelines and interstate oil pipelines.

Frequency of Responses: One-time initial implementation and periodic updates as needed.

Need for Information: The changes are being implemented to enhance the security of natural gas and oil pipelines' company registration accounts and to provide pipelines with an enhanced ability to manage filing permissions.

Internal Review: We have reviewed the changes and determined that the changes are necessary, conforming to the Commission's need for efficient information collection, communication, and management within the energy industry. We have assured ourselves, by means of internal review, that there is specific, objective support for the burden estimates associated with the information collection requirements.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 8, 2013.
Kimberly D. Bose,
Secretary.

[FR Doc. 2013-03399 Filed 2-13-13; 8:45 am]

BILLING CODE 6717-01-P